DEPARTMENT OF ENERGY

Federal Energy Regulatory Commission

Combined Notice of Filings #1

December 26, 2006.

Take notice that the Commission received the following electric corporate filings:

Docket Numbers: EC07-36-000.

Applicants: Lehman Brothers Holdings Inc.

Description: Lehman Brothers Holdings Inc submits an application for blanket authorization to acquire utility and/or holding company securities.

Filed Date: 12/15/2006.

Accession Number: 20061221-0168.

Comment Date: 5 p.m. Eastern Time on Friday, January 05, 2007.

Docket Numbers: EC07-37-000.

Applicants: Entegra Power Group LLC; Gila River Power; Union Power Partners, L.P.

Description: Entegra Power Group LLC et al. submits an application for order amending blanket authorization for certain future transfers and acquisitions of equity interests under Section 203 of the FPA.

Filed Date: 12/19/2006.

Accession Number: 20061221-0169.

Comment Date: 5 p.m. Eastern Time on Tuesday, January 09, 2007.

Docket Numbers: EC07-38-000.

Applicants: NorthWestern Corporation.

Description: NorthWestern Corp submits an application for authorization to acquire Mellon Leasing Corp's Owner Participant interest in its facility under Section 203 of the FPA.

Filed Date: 12/19/2006.

Accession Number: 20061221-0368.

Comment Date: 5 p.m. Eastern Time on Tuesday, January 09, 2007.

Take notice that the Commission received the following exempt wholesale generator filings:

Docket Numbers: EG07-21-000.

Applicants: Cedar Creek Wind Energy, LLC.

Description: Cedar Creek Wind Energy, LLC submits a notice of self-certification of exempt wholesale generator status.

Filed Date: 12/11/2006.

Accession Number: 20061221-0172.

Comment Date: 5 p.m. Eastern Time on Tuesday, January 02, 2007.

Docket Numbers: EG07-23-000.

Applicants: Reliant Energy Ormond Beach, Inc.

Description: Reliant Energy Ormond Beach, Inc submits a Notice of Self-Certification of Exempt Wholesale Generator Status.

Filed Date: 12/18/2006.

Accession Number: 20061222-0148.

Comment Date: 5 p.m. Eastern Time on Monday, January 08, 2007.

Docket Numbers: EG07-24-000.

Applicants: Camp Grove Wind Farm LLC.

Description: Camp Grove Wind Farm LLC submits an exempt Wholesale Generator Notice of Self Certification.

Filed Date: 12/21/2006.

Accession Number: 20061221-5071.

Comment Date: 5 p.m. Eastern Time on Thursday, January 11, 2007.

Take notice that the Commission received the following electric rate filings:

Docket Numbers: ER03-198-007.

Applicants: Pacific Gas and Electric Company.

Description: Pacific Gas & Electric Company submits a change in status as a result of the execution on 7/28/06 of a new Tolling Agreement with Mirant Delta, LLC.

Filed Date: 12/18/2006.

Accession Number: 20061221-0174.

Comment Date: 5 p.m. Eastern Time on Monday, January 08, 2007.

Docket Numbers: ER06-615-005.

Applicants: California Independent System Operator Corporation.

Description: California Independent System Operator Corp submits a compliance filing in compliance with FERC's 9/21/06 Order.

Filed Date: 12/20/2006.

Accession Number: 20061221-0232.

Comment Date: 5 p.m. Eastern Time on Wednesday, January 10, 2007.

Docket Numbers: ER06-1272-002.

Applicants: Reliant Energy Power Supply, LLC.

Description: Reliant Energy Power Supply, LLC submits a notice of a change in status reflecting a non-material departure from the characteristics the Commission relied on in granting market-based rate authority.

Filed Date: 12/20/2006.

Accession Number: 20061221-0176.

Comment Date: 5 p.m. Eastern Time on Wednesday, January 10, 2007.

Docket Numbers: ER07-103-001.

Applicants: LSP Oakland, LLC.

Description: LSP Oakland, LLC submits revision to Tariff Sheet 144 of its Reliability Must-Run Agreement with California Independent System Operator Corporation under ER07-103.

Filed Date: 12/20/2006.

Accession Number: 20061221-0177.

Comment Date: 5 p.m. Eastern Time on Wednesday, January 10, 2007.

Docket Numbers: ER07-227-001.

Applicants: NE Hydro Generating Company.

Description: NE Hydro Generating Company submits the revised market-based rate tariff to replace the rate tariff that was filed with FERC on 11/16/06 in connection with its Notice of Succession.

Filed Date: 12/20/2006.

Accession Number: 20061221-0167.

Comment Date: 5 p.m. Eastern Time on Wednesday, January 10, 2007.

Docket Numbers: ER07-333-000.

Applicants: California Independent System Operator Corporation.

Description: California Independent System Operator Corp submits its informational filing pursuant to Article IX, Section B of the Stipulation and Agreement approved by FERC on 5/28/99.

Filed Date: 12/18/2006.

Accession Number: 20061220-0161.

Comment Date: 5 p.m. Eastern Time on Monday, January 08, 2007.

Docket Numbers: ER07-334-000.

Applicants: California Independent System Operator Corporation.

Description: California Independent System Operator Corporation submits its informational filing pursuant to Article IX, Section B of the Stipulation and Agreement.

Filed Date: 12/20/2006.

Accession Number: 20061220-0163.

Comment Date: 5 p.m. Eastern Time on Wednesday, January 10, 2007.

Docket Numbers: ER07-336-000.

Applicants: San Diego Gas & Electric Company.

Description: San Diego Gas & Electric Company submits its forecast revenue requirement and proposed rates for the service year 2007 Reliability Services Costs, and revised tariff sheets to its Original Volume No. 11 and also submit an errata to this filing on 12/21/06.

Filed Date: 12/20/2006 & 12/21/06.

Accession Number: 20061222-0140.

Comment Date: 5 p.m. Eastern Time on Wednesday, January 10, 2007.

Docket Numbers: ER07-338-000.

Applicants: Southern California Edison Company.

Description: Southern California Edison Company submits revised rate sheets to the Nandina Avenue Interconnection Facilities Agreement, and Wholesale Distribution Service Agreements, Electric Tariff, First Revised Volume No. 5, Nos. 142 and 143.

Filed Date: 12/20/2006.

Accession Number: 20061221-0170.

Comment Date: 5 p.m. Eastern Time on Wednesday, January 10, 2007.

Docket Numbers: ER07-339-000.

Applicants: Southern California Edison Company.

Description: Southern California Edison Co submits revised rate sheets to its Interconnection Facilities Agreement with Riverside County Waste Management Department, Service Agreement No. 26, to Electric Tariff, First Revised Volume No. 5.

Filed Date: 12/20/2006.

Accession Number: 20061221-0171.

Comment Date: 5 p.m. Eastern Time on Wednesday, January 10, 2007.

Docket Numbers: ER07-340-000.

Applicants: Bell Independent Power Corporation.

Description: Bell Independent Power Corp submits a petition for acceptance of initial tariff, waivers and blanket authority.

Filed Date: 12/20/2006.

Accession Number: 20061221-0173.

Comment Date: 5 p.m. Eastern Time on Wednesday, January 10, 2007.

Docket Numbers: ER07-341-000.

Applicants: PacifiCorp.

Description: PacifiCorp submits its Letter Agreement with PPM Energy, Inc and Avista Corp which provides the terms and conditions necessary to transfer up to 35 MW of the total actual output from FPL Energy Vancycle, LLC.

Filed Date: 12/20/2006.

Accession Number: 20061221-0175.

Comment Date: 5 p.m. Eastern Time on Wednesday, January 10, 2007.

Docket Numbers: ER07-342-000.

Applicants: Telocaset Wind Power Partners, LLC.

Description: Telocaset Wind Power Partners, LLC submits a petition for order accepting market-based rate tariff for filing and granting waivers and blanket approvals.

Filed Date: 12/20/2006.

Accession Number: 20061221-0234.

Comment Date: 5 p.m. Eastern Time on Wednesday, January 10, 2007.

Docket Numbers: ER07-343-000.

Applicants: Alcoa Power Generating Inc.

Description: Alcoa Power Generating, Inc submits revised tariff sheets for three electric rate schedules currently on file with the Commission in order to reflect the renewed license for the Tapoco Project.

Filed Date: 12/20/2006.

Accession Number: 20061221-0233.

Comment Date: 5 p.m. Eastern Time on Wednesday, January 10, 2007.

Docket Numbers: ER07-344-000; EL06-67-001.

Applicants: PJM Interconnection, L.L.C.

Description: PJM Interconnection, LLC submits revised tariff sheets containing revisions to its OATT.

Filed Date: 12/18/2006.

Accession Number: 20061222-0153.

Comment Date: 5 p.m. Eastern Time on Monday, January 08, 2007.

Docket Numbers: ER07-345-000.

Applicants: Southwest Power Pool, Inc.

Description: Southwest Power Pool, Inc submits proposed revisions to portions of its OATT relating to its real-time energy imbalance service market.

Filed Date: 12/20/2006.

Accession Number: 20061222-0072.

Comment Date: 5 p.m. Eastern Time on Wednesday, January 10, 2007.

Docket Numbers: ER07-346-000.

Applicants: Southern California Edison Company.

Description: Southern California Edison Co submits a Letter Agreement with Stirling Energy Systems Solar One Incorporated.

Filed Date: 12/21/2006.

Accession Number: 20061222-0071.

Comment Date: 5 p.m. Eastern Time on Thursday, January 11, 2007.

Docket Numbers: ER07-347-000.

Applicants: Southern California Edison Company.

Description: Southern California Edison Co submits a Letter Agreement with Walnut Creek Energy, LLC.

Filed Date: 12/21/2006.

Accession Number: 20061222-0070.

Comment Date: 5 p.m. Eastern Time on Thursday, January 11, 2007.

Docket Numbers: ER07-348-000.

Applicants: Cleco Power LLC.

Description: Cleco Power, LLC submits revisions to the three-party 9/1/51 System Interconnection Agreement with Entergy Gulf States, Inc and Entergy Louisiana, LLC.

Filed Date: 12/21/2006.

Accession Number: 20061222-0146.

Comment Date: 5 p.m. Eastern Time on Thursday, January 11, 2007.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-22527 Filed 1-3-07; 8:45 am]

BILLING CODE 6717-01-P